DEPARTMENT OF THE INTERIOR

Bureau of Indian Affairs

25 CFR Part 170—Indian Reservation Roads

AGENCY: Bureau of Indian Affairs, Interior.

ACTION: Notice of Proposed Renewal of Information Collection.

SUMMARY: The Bureau of Indian Affairs (BIA) is seeking comments on information collected for the Indian Reservation Roads (IRR) Program. When the rule was published three years ago, the information collection was approved for three years. We now must renew that approval so that we can continue to operate the IRR program. This renewal is necessary for tribal participation in the IRR Program and for the allocation of funding for the IRR Program to federally recognized tribal governments for transportation assistance.

DATE: Submit comments on or before March 13, 2009.

ADDRESSES: Send comments to LeRoy Gishi, Chief, Division of Transportation, 1849 C Street, NW., Mail Stop 4512 MIB, Washington, DC 20240, fax: (202) 208-4696.

FOR FURTHER INFORMATION CONTACT: You may request further information or obtain copies of the proposed information collection request from LeRoy Gishi, Chief, Division of Transportation, 1849 C Street, NW., Mail Stop 4512 MIB, Washington, DC 20240, fax: (202) 208-4696.

SUPPLEMENTARY INFORMATION: This information collection is necessary to allow federally recognized tribal governments to participate in the Indian Reservation Roads (IRR) Program as defined in 23 U.S.C. 204(a)(1). Some of the information collected determines the allocation of IRR program funds to Indian tribes as described in 23 U.S.C. 202 (d)(2)(A).

Request for Comments: The BIA requests your comments on this collection concerning: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 4516 MIB, during the hours of 8 a.m.-4:30 p.m., EST Monday through Friday except for legal holidays. Before including your address, phone number, e-mail address or other personally identifiable information, be advised that your entire comment—including your personally identifiable information—may be made public at any time. While you may request that we withhold your personally identifiable information, we cannot guarantee that we will be able to do so. All comments from organizations or representatives will be available for review. We may withhold comments from review for other reasons.

OMB Control Number: 1076-0161.

Type of review: Extension.

Title: 25 CFR 170, Indian Reservation Roads.

Brief Description of collection: Some of the information such as the application of Indian Reservation Roads High Priority Projects (IRRHPP) (25 CFR 170.210), the road inventory updates (25 CFR 170.443), the development of a long range transportation plan (25 CFR 170.411 and 170.412), the development of a tribal transportation improvement program and priority list (25 CFR 170.420 and 170.421) are mandatory for consideration of projects and for program funding from the formula. Some of the information, such as public hearing requirements, is necessary for public notification and involvement (25 CFR 170.437 and 170.439). While other information, such as data appeals (25 CFR 170.231) and requests for design exceptions (25 CFR 170.456), is voluntary.

Respondents: Respondents include federally recognized Indian tribal governments who have transportation needs associated with the IRR Program as described in 25 CFR 170.

Number of Respondents: Varies from 10 to 562.

Estimated Time per Response: The reports require from 30 minutes to 40 hours to complete. An average would be 16 hours.

Frequency of Response: Annually or on an as needed basis.

Total Annual Burden to Respondents: 18,828 hours.

Total Annual Cost to Respondents: $188,280.

Dated: December 17, 2008.
Sanjeev “Sonny” Bhagowalia,
Chief Information Officer—Indian Affairs.

[FR Doc. E9-303 Filed 1-9-09; 8:45 am]

BILLING CODE 4310-4J-P